DEPARTMENT OF TRANSPORTATION

Federal Aviation Administration

14 CFR Part 39

[Docket No. FAA-2016-6427; Directorate Identifier 2015-NM-200-AD; Amendment 39-18770; AD 2017-01-03]

RIN 2120-AA64

Airworthiness Directives; The Boeing Company

AGENCY: Federal Aviation Administration (FAA), DOT.

ACTION: Final rule.

SUMMARY: We are superseding Airworthiness Directive (AD) 2007-11-13 for all The Boeing Company Model 717-200 airplanes. AD 2007-11-13 required revising the Airworthiness Limitations Section (ALS) of the Instructions for Continued Airworthiness to incorporate new removal limits for certain components of the flap system and to reduce the inspection intervals for fatigue cracking of principal structural elements (PSE). This new AD requires revising the maintenance or inspection program, as applicable, to incorporate reduced intervals for the inspections for three PSEs and add nondestructive inspections (NDIs). This AD was prompted by a new Airworthiness Limitations Instruction (ALI) revision that incorporates NDI techniques and reduced repetitive inspection intervals for three PSEs. We are issuing this AD to address the unsafe condition on these products.

DATES: This AD is effective March 14, 2017.

The Director of the Federal Register approved the incorporation by reference of a certain publication listed in this AD as of March 14, 2017.

The Director of the Federal Register approved the incorporation by reference of a certain other publications listed in this AD as of June 29, 2007 (72 FR 29237, May 25, 2007).

ADDRESSES: For service information identified in this final rule, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2016-6427.

Examining the AD Docket

You may examine the AD docket on the Internet at http://www.regulations.gov by searching for and locating Docket No. FAA-2016-6427; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Eric Schrieber, Aerospace Engineer, Airframe Branch, ANM-120L, FAA, Los Angeles Aircraft Certification Office (ACO), 3960 Paramount Boulevard, Lakewood, CA 90712-4137; phone: 562-627-5348; fax: 562-627-5210; email: eric.schrieber@faa.gov.

SUPPLEMENTARY INFORMATION:

Discussion

We issued a notice of proposed rulemaking (NPRM) to amend 14 CFR part 39 to supersede AD 2007-11-13, Amendment 39-15070 (72 FR 29237, May 25, 2007) (“AD 2007-11-13”). AD 2007-11-13 applied to all The Boeing Company Model 717-200 airplanes. The NPRM published in the Federal Register on Wednesday, May 11, 2016 (81 FR 29196) (“the NPRM”). The NPRM was prompted by an ALI revision that incorporates NDI techniques and reduces repetitive inspection intervals for three PSEs. The NPRM proposed to require revising the maintenance or inspection program, as applicable, to incorporate reduced intervals for the inspections for three PSEs and add NDI techniques to the inspection process. We are issuing this AD to detect and correct fatigue cracking of certain PSEs, which could adversely affect the structural integrity of the airplane.

Comments

We gave the public the opportunity to participate in developing this AD. The following presents the comments received on the NPRM and the FAA's response to each comment.

Support for the NPRM

Boeing stated that it supports the NPRM.

Request To Change the Number of Airplanes Affected by This AD

Delta Airlines (DAL) requested that we correct the number of airplanes listed in the Costs of Compliance section of the NPRM because there are not 572 The Boeing Company Model 717-200 airplanes in service.

We agree. The number of The Boeing Company Model 717-200 airplanes was incorrect in the NPRM. We have changed the Costs of Compliance section of this final rule to state that this AD affects 110 airplanes of U.S. registry, and adjusted the cost information accordingly.

Request To Change Compliance Time for Reporting Requirement

DAL requested that we change the compliance time for reporting PSE cracks to Boeing from immediately to within 10 days after the airplane is returned to service.

We agree to clarify the reporting specified in the ALI document. The wording in the ALI under “Reporting of Inspection Results” states, “Crack findings should be reported immediately to Boeing.” This AD does not require reporting. However, reporting is recommended for research and tracking. We have not changed this AD in this regard.

Request To Delay Rule Until Updated ALI is Released

DAL requested we delay issuance of the final rule until Boeing releases Revision 15 of the ALI. DAL stated that Revision 15 will include an increased threshold for certain wing PSEs. DAL asserts that the increased threshold will benefit operators and prevent applications for alternative methods of compliance (AMOCs).

We agree. Since the NPRM was issued, we have reviewed Boeing 717-200 ALI, Report MDC-96K9063, Revision 15, dated June 2016, which includes increased thresholds for 15 wing PSEs. We have revised paragraph (i) of this AD to refer to the revised service information. We have also added a new paragraph (k) to this AD to give credit for accomplishing the revision of the maintenance or inspection program before the effective date of this AD by incorporating Boeing 717-200 ALI, Report MDC-96K9063, Revision 14, dated July 2015. We have redesignated subsequent paragraphs accordingly.

Request To Allow Specific AMOC

DAL requested that we allow specific AMOCs approved for AD 2007-11-13 for compliance with this AD. DAL stated that it is tracking more than 60 AMOCs for AD 2007-11-13 that involve repairs in certain PSE areas (PSE 53.30.02.07, 53.30.02.11, 53.30.02.13, 53.30.02.23, and 55.53.02.03) or reduced life of landing gear parts. Without the allowance to use these AMOCs for this AD, DAL pointed out that it will need to work with Boeing on revised AMOC requests once this AD is issued.

We agree with the commenter's request to allow certain AMOCs approved for AD 2007-11-13 for compliance with this AD. The intent of disallowing previously approved AMOCs to apply to this AD was because of the reduction of repetitive intervals for PSE 53.30.02.11, 57.11.02.03, or 57.32.01.07. We will allow AMOCs approved for AD 2007-11-13 as AMOCs for the corresponding requirements of this AD, provided they do not apply to PSE 53.30.02.11, 57.11.02.03, or 57.32.01.07. We have changed paragraph (l) of this AD accordingly.

Conclusion

We reviewed the relevant data, considered the comments received, and determined that air safety and the public interest require adopting this AD with the changes described previously, and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing 717-200 ALI, Report MDC-96K9063, Revision 15, dated June 2016. The service information describes procedures for inspecting PSEs, and includes a change to reduce the interval inspections for three PSEs and adds NDI techniques to the inspection process. This service information is reasonably available because the interested parties have access to it through their normal course of business or by the means identified in the ADDRESSES section.

Costs of Compliance

We estimate that this AD affects 110 airplanes of U.S. registry.

We estimate the following costs to comply with this AD:

Estimated Costs
Action | Labor cost | Cost per product | Cost on U.S. operators
Maintenance or inspection program revision | 1 work-hour × $85 per hour = $85 | $85 | $9,350

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-11-13, Amendment 39-15070 (72 FR 29237, May 25, 2007), and adding the following new AD:

2017-01-03 The Boeing Company: Amendment 39-18770; Docket No. FAA-2016-6427; Directorate Identifier 2015-NM-200-AD.

(a) Effective Date

This AD is effective March 14, 2017.

(b) Affected ADs

This AD replaces AD 2007-11-13, Amendment 39-15070 (72 FR 29237, May 25, 2007) (“AD 2007-11-13”).

(c) Applicability

This AD applies to all The Boeing Company Model 717-200 airplanes, certificated in any category.

(d) Subject

Air Transport Association (ATA) of America Code 51, Standard practices/structures.

(e) Unsafe Condition

This AD was prompted by a new Airworthiness Limitations Instruction (ALI) revision that incorporates nondestructive inspection (NDI) techniques and reduced repetitive inspection intervals for three principal structural elements (PSEs). We are issuing this AD to detect and correct fatigue cracking of certain PSEs, which could adversely affect the structural integrity of the airplane.

(f) Compliance

Comply with this AD within the compliance times specified, unless already done.

(g) Retained Revision of the Airworthiness Limitations Section (ALS), With No Changes

This paragraph restates the requirements of paragraph (h) of AD 2007-11-13, with no changes. Within 180 days after June 29, 2007 (the effective date of AD 2007-11-13): Revise the ALS of the Instructions for Continued Airworthiness, ALI in accordance with Boeing 717-200 ALI, Report MDC-96K9063, Revision 5, dated February 2006.

(h) Retained Provision Regarding Alternative Actions and Intervals, With Revised Language

This paragraph restates the requirements of paragraph (i) of AD 2007-11-13, with revised language. Except as required by paragraph (i) of this AD: After the ALS has been revised as required by paragraph (g) of this AD, no alternative actions (e.g., inspections) or intervals may be used unless the actions or intervals are approved as an alternative method of compliance (AMOC) in accordance with the procedures specified in paragraph (l) of this AD.

(i) New Maintenance or Inspection Program Revision

Within 180 days after the effective date of this AD: Revise the maintenance or inspection program, as applicable, to incorporate the information specified in Boeing 717-200 ALI, Report MDC-96K9063, Revision 15, dated June 2016. The initial compliance times for doing the actions specified in Boeing 717-200 ALI, Report MDC-96K9063, Revision 15, dated June 2016, are at the later of the times specified in paragraphs (i)(1) and (i)(2) of this AD. Compliance with this paragraph terminates the requirements of paragraph (g) of this AD.

(1) Within the applicable compliance times specified in Boeing 717-200 ALI, Report MDC-96K9063, Revision 15, dated June 2016.

(2) Within 180 days after the effective date of this AD.

(j) New Provision Regarding No Alternative Actions or Intervals

After the maintenance or inspection program has been revised as required by paragraph (i) of this AD, no alternative actions (e.g., inspections) or intervals may be used unless the actions or intervals are approved as an AMOC in accordance with the procedures specified in paragraph (l) of this AD.

(k) Credit for Previous Actions

This paragraph provides credit for the revision required by paragraph (i) of this AD, if that action was performed before the effective date of this AD using Boeing 717-200 ALI, Report MDC-96K9063, Revision 14, dated July 2015.

(l) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, FAA, to make those findings. To be approved, the repair method, modification deviation, or alteration deviation must meet the certification basis of the airplane, and the approval must specifically refer to this AD.

(4) AMOCs approved previously for AD 2007-11-13 are approved as AMOCs with this AD, provided the AMOCs do not apply to PSE 53.30.02.11, 57.11.02.03, or 57.32.01.07.

(m) Related Information

(1) For more information about this AD, contact Eric Schrieber, Aerospace Engineer, Airframe Branch, ANM-120L, FAA, Los Angeles ACO, 3960 Paramount Boulevard, Lakewood, CA 90712-4137; phone: 562-627-5348; fax: 562-627-5210; email: eric.schrieber@faa.gov.

(2) Service information identified in this AD that is not incorporated by reference is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on March 14, 2017.

(i) Boeing 717-200 Airworthiness Limitations Instructions (ALI), Report MDC-96K9063, Revision 15, dated June 2016.

(ii) Reserved.

(4) The following service information was approved for IBR on June 29, 2007 (72 FR 29237, May 25, 2007).

(i) Boeing 717-200 Airworthiness Limitations Instructions, Report MDC-96K9063, Revision 5, dated February 2006.

(ii) Reserved.

(5) For service information identified in this AD, contact Boeing Commercial Airplanes, Attention: Contractual & Data Services (C&DS), 2600 Westminster Blvd., MC 110-SK57, Seal Beach, CA 90740-5600; telephone 562-797-1717; Internet https://www.myboeingfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 27, 2016.
Jeffrey E. Duven,
Manager, Transport Airplane Directorate, Aircraft Certification Service.

[FR Doc. 2016-31962 Filed 2-6-17; 8:45 am]

BILLING CODE 4910-13-P